CORPORATION FOR NATIONAL AND COMMUNITY SERVICE

Sunshine Act Notice

The Board of Directors of the Corporation for National and Community Service gives notice of the following meeting:

DATE AND TIME: Thursday, October 20, 2011, 10:30 a.m.-12 p.m.

PLACE: Corporation for National and Community Service, 1201 New York Avenue, NW., Suite 8312, Washington, DC 20525 (Please go to 10th floor reception area for escort).

CALL-IN INFORMATION: This meeting is available to the public through the following toll-free call-in number: 888-946-3503 conference call access code number 6754733. Any interested member of the public may call this number and listen to the meeting. Callers can expect to incur charges for calls they initiate over wireless lines, and the Corporation will not refund any incurred charges. Callers will incur no charge for calls they initiate over land-line connections to the toll-free telephone number. Replays are generally available one hour after a call ends. The toll-free phone number for the replay is 402-220-9658. The end replay date is October 27, 2011 10:59 p.m. Central Time. This meeting will also be broadcast live on the Web. Members of the public may view proceedings by visiting http://www.nationalservice.gov/about/newsroom/live.asp.

STATUS: Open.

Matters To Be Considered

I. Chair's Opening Comments

II. Consideration of Previous Meeting's Minutes

III. CEO Report

IV. Committee Reports:

a. Oversight, Governance and Audit Committee

b. External Relations Committee

c. Program, Budget and Evaluation Committee

V. Testimony on Accomplishments Achieved Through the Social Innovation Fund

VI. Public Comments

Members of the public who would like to comment on the business of the Board may do so in writing or in person. Individuals may submit written comments to esamose@cns.gov subject line: October 2011 CNCS Board Meeting by 12 noon on Tuesday October 18. Individuals attending the meeting in person who would like to comment will be asked to sign-in upon arrival. Comments are requested to be limited to 2 minutes.

REASONABLE ACCOMMODATIONS: The Corporation for National and Community Service provides reasonable accommodations to individuals with disabilities where appropriate. Anyone who needs an interpreter or other accommodation should notify Ida Green at igreen@cns.gov or 202-606-6861 by 5 p.m., Monday, October 17, 2011.

CONTACT PERSON FOR MORE INFORMATION: Emily Samose, Strategic Advisor for Board Engagement, Corporation for National and Community Service, 1201 New York Avenue, NW., Washington, DC 20525. Phone: (202) 606-7564. Fax: (202) 606-3460. TTY: (800) 833-3722. E-mail: esamose@cns.gov.

Dated: October 12, 2011.
Valerie Green,
General Counsel.

[FR Doc. 2011-26819 Filed 10-12-11; 4:15 pm]

BILLING CODE 6050-$$-P